DEPARTMENT OF ENERGY

Federal Energy Regulatory Commission

[Docket No. CP22-227-000]

Columbia Gas Transmission, LLC; Notice of Schedule for the Preparation of an Environmental Assessment for the Coco B Wells Replacement Project

On April 26, 2022, Columbia Gas Transmission, LLC (Columbia) filed an application in Docket No. CP22-227-000 requesting a Certificate of Public Convenience and Necessity pursuant to Section 7(b) and 7(c) of the Natural Gas Act to abandon, construct, and operate certain natural gas pipeline facilities. The proposed project is known as the Coco B Wells Replacement Project (Project) which Columbia states would maintain the integrity of the Coco B storage field in West Virginia, as well as Columbia's certificated facilities and services.

On May 10, 2022, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA October 20, 2022.

90-day Federal Authorization Decision Deadline ² January 18, 2023.

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Columbia proposes to construct and operate two new Injection and Withdrawal Wells and related pipeline and appurtenances in a new well pad, and proposes to plug and abandon four existing Injection and Withdrawal wells and related pipeline and appurtenances within the Coco B Storage Field in Kanawha County, West Virginia.

Background

On June 14, 2022, the Commission issued a Notice of Scoping Period Requesting Comments on Environmental Issues for the Proposed Coco B Wells Replacement Project (Notice of Scoping). The Notice of Scoping was sent to affected landowners; federal, state, and local government agencies; elected officials; environmental and public interest groups; Native American tribes; other interested parties; and local libraries and newspapers. All substantive comments received in response to the Notice of Scoping will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-227), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 8, 2022.
Kimberly D. Bose,
Secretary.

[FR Doc. 2022-15055 Filed 7-13-22; 8:45 am]

BILLING CODE 6717-01-P